NATIONAL SCIENCE FOUNDATION

Advisory Committee for Environmental Research and Education; Notice of Meeting

In accordance with the Federal Advisory Committee Act (Pub. L. 92-463, as amended), the National Science Foundation announces the following meeting:

Name: Advisory Committee for Environmental Research and Education (9487).

Dates: October 15, 2008, 9 a.m.-5 p.m. and October 16, 2008, 9 a.m.-1 p.m.

Place: Stafford I, Room 1235, National Science Foundation, 4201 Wilson Blvd., Arlington, Virginia 22230.

Type of Meeting: Open.

Contact Person: Alan Tessier, National Science Foundation, Suite 635, 4201 Wilson Blvd., Arlington, Virginia 22230. Phone 703-292-7198.

Minutes: May be obtained from the contact person listed above.

Purpose of Meeting: To provide advice, recommendations, and oversight concerning support for environmental research and education.

Agenda

October 15

Introduction of New Members.

Update on recent NSF environmental activities.

Presentation by Dr. Simon Levin, Princeton University.

Discussion with Dr. Jeannette Wing, Assistant Director CISE.

Discussion of the Committee's draft “Green Report.”

October 16

Update on Engineering Directorate programs in sustainability.

Discussion of Future AC/ERE activities.

Dated: September 9, 2008.
Susanne Bolton,
Committee Management Officer.

[FR Doc. E8-21245 Filed 9-11-08; 8:45 am]

BILLING CODE 7555-01-P